DEPARTMENT OF ENERGY

Federal Energy Regulatory Commission

[Docket No. RP00-250-000]

Kinder Morgan Interstate Gas Transmission LLC; Notice of Request for Waiver

April 20, 2000.

Take notice that on April 14, 2000, Kinder Morgan Interstate Gas Transmission LLC (KM Interstate) filed a request for a one-time waiver of certain notice and timing requirements of Section 18 of its FERC Gas Tariff, Volume No. I-B, relating to the Right of First Refusal process with respect to two contracts with KN Energy, a division of Kinder Morgan, Inc. that expire on May 31, 2000.

KM Interstate requests that it be allowed (1) to use an iterative bidding process limited to two rounds, if necessary, (2) to shorten the required time frame between the end of the bidding process and contract expiration from 45 days to the number of days in the period between the end of the bidding process and May 30, 2000, and (3) to shorten the required time frame for the execution and tendering of a service agreement by the original shipper, it necessary, from 15 days to a period to expire no later than May 30, 2000.

KM Interstate states that copies of the filing have been served upon mainline transportation and storage shippers and affected state regulatory bodies.

Any person desiring to be heard or to protest said filing should file a motion to intervene or a protest with the Federal Energy Regulatory Commission, 888 First Street, N.E., Washington, D.C. 20426, in accordance with Sections 385.214 or 385.211 of the Commission's Rules and Regulations. All such motions or protests must be filed on or before April 24, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-10339 Filed 4-25-00; 8:45 am]

BILLING CODE 6717-01-M